DEPARTMENT OF THE TREASURY

Submission for OMB Review; Comment Request

January 22, 2009.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before March 2, 2009 to be assured of consideration.

Bureau of Engraving and Printing (BEP)

OMB Number: 1520-0001.

Type of Review: Extension.

Form: BEP 5283.

Title: Owner's Affidavit of Partial Destruction of Mutilated Currency.

Description: The Office of Currency Standards, Bureau of Engraving & Printing requests owners of partially destroyed U.S. currency to complete a notarized affidavit (BEP 5283) for each claim submitted when substantial portions of notes are missing.

Respondents: Individuals or households.

Estimated Total Burden Hours: 90 hours.

OMB Number: 1520-0002.

Type of Review: Extension.

Title: Claim for Amounts Due in the Case of Deceased Owner of Mutilated Currency.

Form: BEP 5287.

Description: BEP 5287 is used when Treasury is required to determine owner-ship in cases of a deceased owner of damaged or mutilated currency.

Respondents: Individuals or households.

Estimated Total Burden Hours: 1,821 hours.

Clearance Officer: Cary Conn (202) 874-2396, Bureau of Engraving and Printing, 14th & C Street, SW., Washington, DC 20228.

OMB Reviewer: OIRA Desk Officer, Office of Management and Budget, Room 10235, New Executive Office Building, Washington, DC 20503, oira_submission@omb.eop.gov.

Robert Dahl,
Treasury PRA Clearance Officer.

[FR Doc. E9-1859 Filed 1-28-09; 8:45 am]

BILLING CODE 4840-01-P